DEPARTMENT OF ENERGY

Federal Energy Regulatory Commission

[Docket No. RP00-514-002]

Southern Natural Gas Company; Notice of Proposed Changes to FERC Gas Tariff

November 6, 2000.

Take notice on October 30, 2000, Southern Natural Gas Company (Southern) tendered for filing as part of its FERC Gas Tariff, Seventh Revised Volume No. 1, the following tariff sheets to become effective October 1, 2000:

Fifth Revised Sheet No. 99

1st Substitute Fourth Revised Sheet No. 101

1st Substitute Original Sheet No. 101A

1st Substitute Original Sheet No. 101B

1st Substitute 1st Revised Sheet No. 102

1st Substitute Original Sheet No. 102-A

Southern states that the purpose of this filing is to comply with the Commission's order dated September 28, 2000 in the above-referenced docket. Such letter order generally approved Southern's tariff filing made to replace its first-come, first-served capacity allocation methodology to a net present value (NPV) of awarding available capacity. Such order required Southern to make a compliance filing: (i) To limit the establishment of a reserve price in an open season to prior to the posting; (ii) to revise its proposal that shippers must return their Service Agreements within ten (10) business days after receipt if the terms of the Service Agreement reflect the terms of the bid or fifteen (15) business days if the terms do not identically follow the bid; (iii) to establish a minimum bidding period for open seasons which Southern has set at three days for available capacity for less than one year and ten days for one year or more; (iv) to establish the length of time in which Southern must evaluate the bids in an open season; (v) to specify that Southern will post available capacity and the winning bid and NPV method used to calculate the bid; (vi) to specify that Southern's tie breaker methodology for comparable bids is prorata; (vii) to clarify that Primary Receipt Point amendments will be awarded on a first-come, first-served basis; (viii) to clarify that if Southern awards capacity out of pending requests in the queue then it will do so on a first-come, first-served basis.

In addition, Southern has filed a clarification to Section 2.1(a) of the General Terms and Conditions specifying that bids made as part of an open season under Section 2.1(b)(iv) could request service that will commence outside of the 60 day period generally required for FT Requests. Southern intended that open seasons could be held more than 60 days prior to the date the capacity became available, and this tariff language clarifies Southern's intention.

Southern has made an additional clarification consistent with Answer filed by Southern in this proceeding by specifying that, to the extent there are pending requests in the queue for which capacity becomes available, it will within thirty days, either award the capacity on a first-come, first-served basis, post to reserve the capacity, or post its intention to hold an open season for the capacity.

Finally, with respect to the requirement of the commission to specify the length of time to evaluate bids, Southern states that it will post the response time in the open season posting.

Southern states that it needs the flexibility to tailor the response time to the complexity of the open season.

Southern has requested that these sheets be made effective as of October 1, 2000 consistent with the Commission's September 28th Order.

Southern states that copies of the filing will be served upon its shippers and interested state commissions.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28940 Filed 11-9-00; 8:45 am]

BILLING CODE 6717-01-M